DEPARTMENT OF COMMERCE

International Trade Administration

[A-122-857]

Certain Softwood Lumber Products From Canada: Preliminary Results of Antidumping Duty Administrative Review

AGENCY: Enforcement and Compliance, International Trade Administration, Department of Commerce.

SUMMARY: The Department of Commerce (Commerce) is conducting an administrative review of the antidumping duty (AD) order on certain softwood lumber products (softwood lumber) from Canada. The period of review (POR) is January 1, 2019, through December 31, 2019. Commerce preliminarily determines that the producers/exporters subject to this review made sales of subject merchandise at less than normal value. We invite interested parties to comment on these preliminary results.

DATES: Applicable May 27, 2021.

FOR FURTHER INFORMATION CONTACT: Jeff Pedersen (Canfor), and Maisha Cryor (West Fraser), AD/CVD Operations, Office IV, Enforcement and Compliance, International Trade Administration, U.S. Department of Commerce, 1401 Constitution Avenue NW, Washington, DC 20230; telephone: (202) 482-2769 and (202) 482-5831, respectively.

SUPPLEMENTARY INFORMATION:

Background

On March 10, 2020, Commerce published in the Federal Register the notice of initiation of an AD administrative review on softwood lumber from Canada.¹ On March 10, 2020, based on timely requests for administrative reviews, Commerce initiated an AD administrative review covering 268 companies and has not rescinded the review of any of these companies.² Thus, the review covers 268 producers/exporters of the subject merchandise, including mandatory respondents Canfor ³ and West Fraser.⁴ The remaining companies were not selected for individual examination and remain subject to this administrative review. On April 24, 2020 and July 21, 2020, Commerce tolled all deadlines in administrative reviews by 50 days and 60 days, respectively, thereby extending the deadline for issuing the preliminary results of this review.⁵ On January 8, 2021, we extended the preliminary results until May 20, 2021.⁶

¹ See Initiation of Antidumping and Countervailing Duty Administrative Reviews, 85 FR 13860 (March 10, 2020).

² Id.

³ As described in the Preliminary Decision Memorandum, we have treated Canfor Corporation, Canadian Forest Products Ltd., and Canfor Wood Products Marketing Ltd. (collectively, Canfor) as a single entity. See Memorandum, “Decision Memorandum for the Preliminary Results of Antidumping Duty Administrative Review: Certain Softwood Lumber Products from Canada; 2019,” dated concurrently with, and hereby adopted by, this notice (Preliminary Decision Memorandum) at 5.

⁴ As described in the Preliminary Decision Memorandum, we have treated West Fraser Mills Ltd., Blue Ridge Lumber Inc., Manning Forest Products Ltd., and Sundre Forest Products Inc. (collectively, West Fraser) as a single entity. See Preliminary Decision Memorandum at 5-6.

⁵ See Memorandum, “Tolling of Deadlines for Antidumping and Countervailing Duty Administrative Reviews in Response to Operational Adjustments Due to COVID-19,” dated April 24, 2020; and Memorandum, “Tolling of Deadlines for Antidumping and Countervailing Duty Administrative Reviews,” dated July 21, 2020.

⁶ See Memorandum “Extension of Deadline for Preliminary Results of Second Antidumping Duty Administrative Review,” dated January 8, 2021.

Scope of the Order

The product covered by this review is softwood lumber from Canada. For a full description of the scope, see the Preliminary Decision Memorandum.⁷

⁷ See Preliminary Decision Memorandum at 3-5.

Methodology

Commerce is conducting this review in accordance with section 751(a)(1)(B) of the Tariff Act of 1930, as amended (the Act). For a full description of the methodology underlying our conclusions, see the Preliminary Decision Memorandum. A list of the topics is included in the Preliminary Decision Memorandum as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at http://enforcement.trade.gov/frn/.

Preliminary Results of the Administrative Review

We preliminarily determine that the following weighted-average dumping margins exist for the period January 1, 2019, through December 31, 2019:

Exporter/producer | Weighted- average margin (percent)
Canfor Corporation/Canadian Forest Products Ltd./Canfor Wood Products Marketing Ltd | 18.62
West Fraser Mills Ltd./Blue Ridge Lumber Inc./Manning Forest Products Ltd./and Sundre Forest Products Inc | 6.58
Non-Selected Companies | 12.05

Rate for Companies Not Individually Examined

Generally, when calculating margins for non-selected respondents, Commerce looks to section 735(c)(5) of the Act for guidance, which provides instructions for calculating the all-others margin in an investigation. Section 735(c)(5)(A) of the Act provides that when calculating the all-others margin, Commerce will exclude any zero and de minimis weighted-average dumping margins, as well as any weighted-average dumping margins based on total facts available. Accordingly, Commerce's usual practice has been to average the margins for selected respondents, excluding margins that are zero, de minimis, or based entirely on facts available.

In this review, we calculated a weighted-average dumping margin of 18.62 percent for Canfor and 6.58 percent for West Fraser. In accordance with section 735(c)(5)(A) of the Act, Commerce assigned the weighted-average of these two calculated weighted-average dumping margins, 12.05 percent, to the non-selected companies in these preliminary results. The rate calculated for the non-selected companies is a weighted-average percentage margin which is calculated based on the U.S. values of the two reviewed companies with an affirmative AD margin.⁸ Accordingly, we have applied a rate of 12.05 percent to the non-selected companies.⁹

⁸ See Ball Bearings and Parts Thereof from France, Germany, Italy, Japan, and the United Kingdom: Final Results of Antidumping Duty Administrative Reviews, Final Results of Changed-Circumstances Review, and Revocation of an Order in Part, 75 FR 53661, 53663 (September 1, 2010).

⁹ See Memorandum, “Calculation of the Rate for Non-Selected Respondents,” dated concurrently with this notice. A list of the non-selected companies under review is included as Attachment II.

Disclosure

We intend to disclose the calculations performed for these preliminary results to the interested parties within five days after public announcement of the preliminary results in accordance with 19 CFR 351.224(b).

Public Comment

Pursuant to 19 CFR 351.309(c), interested parties may submit case briefs to the Assistant Secretary for Enforcement and Compliance not later than 30 days after the date of publication of this notice, unless Commerce alters the time limit. Rebuttal briefs, limited to issues raised in the case briefs, may be filed not later than seven days after the date for filing case briefs.¹⁰ Parties who submit case briefs or rebuttal briefs in this administrative review are encouraged to submit with each argument: (1) A statement of the issue; (2) a brief summary of the argument; and (3) a table of authorities.¹¹ Commerce has modified certain of its requirements for service of documents containing business proprietary information, until further notice.¹²

¹⁰ See 19 CFR 351.309(d); and 19 CFR 351.303 (for general filing requirements).

¹¹ See 19 CFR 351.309(c)(2) and (d)(2).

¹² See Temporary Rule Modifying AD/CVD Service Requirements Due to COVID-19, 85 FR 17006 (March 26, 2020); and Temporary Rule Modifying AD/CVD Service Requirements Due to COVID-19; Extension of Effective Period, 85 FR 41363 (July 10, 2020).

Pursuant to 19 CFR 351.310(c), interested parties who wish to request a hearing, must submit a written request to the Assistant Secretary for Enforcement and Compliance, filed electronically via ACCESS. An electronically filed document must be received successfully in its entirety via ACCESS by 5:00 p.m. Eastern Time within 30 days after the date of publication of this notice.¹³ Requests should contain: (1) The party's name, address, and telephone number; (2) the number of participants; and (3) a list of issues to be discussed. Issues raised in the hearing will be limited to those raised in the respective case briefs. Commerce intends to issue the final results of this administrative review, including the results of its analysis of the issues raised in any written briefs, not later than 120 days after the date of publication of these preliminary results in the Federal Register, pursuant to section 751(a)(3)(A) of the Act, unless extended.

¹³ See 19 CFR 351.310(c).

Assessment Rate

Upon issuance of the final results, Commerce will determine, and U.S. Customs and Border Protection (CBP) shall assess, antidumping duties on all appropriate entries covered by this review.¹⁴ If a respondent's weighted-average dumping margin is above de minimis in the final results of this review, we will calculate an importer-specific assessment rate based on the ratio of the total amount of dumping calculated for each importer's examined sales and the total entered value of the sales in accordance with 19 CFR 351.212(b)(1).¹⁵ If a respondent's weighted-average dumping margin or an importer-specific assessment rate is zero or de minimis in the final results of review, we will instruct CBP to liquidate the appropriate entries without regard to antidumping duties in accordance with the Final Modification for Reviews.¹⁶ The final results of this administrative review shall be the basis for the assessment of antidumping duties on entries of merchandise under review and for future deposits of estimated duties, where applicable. We intend to issue liquidation instructions to CBP no earlier than 35 days after date of publication of the final results of this review in the Federal Register.

¹⁴ See 19 CFR 351.212(b).

¹⁵ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

¹⁶ See Final Modification for Reviews, 77 FR at 8103; and 19 CFR 351.106(c)(2).

Cash Deposit Requirements

The following cash deposit requirements for estimated antidumping duties will be effective upon publication of the notice of final results of this review for all shipments of softwood lumber from Canada entered, or withdrawn from warehouse, for consumption on or after the date of publication as provided by section 751(a)(2)(C) of the Act: (1) The cash deposit rate for companies subject to this review will be equal to the dumping margin established in the final results of the review; (2) for merchandise exported by companies not covered in this review but covered in a prior segment of this proceeding, the cash deposit rate will continue to be the company-specific rate published for the most recent period; (3) if the exporter is not a firm covered in this review, a prior review, or the less-than-fair-value (LTFV) investigation but the producer is, the cash deposit rate will be the rate established for the most recently completed segment for the producer of the merchandise; (4) the cash deposit rate for all other producers or exporters will continue to be the 6.04 percent, the all-others rate established in the LTFV investigation.¹⁷ These cash deposit requirements, when imposed, shall remain in effect until further notice.

¹⁷ See Certain Softwood Lumber Products from Canada: Antidumping Duty Order and Partial Amended Final Determination, 83 FR 350 (January 3, 2018).

Notification to Importers

This notice serves as a preliminary reminder to importers of their responsibility under 19 CFR 351.402(f)(2) to file a certificate regarding the reimbursement of antidumping duties prior to liquidation of the relevant entries during this period of review. Failure to comply with this requirement could result in Commerce's presumption that reimbursement of antidumping duties occurred and the subsequent assessment of double antidumping duties.

Notification to Interested Parties

Commerce is issuing and publishing these results in accordance with sections 751(a)(1) and 777(i) of the Act, and 19 CFR 351.221(b)(4).

Dated: May 20, 2021.
Ryan Majerus,
Deputy Assistant Secretary for Policy and Negotiations.

Appendix I

List of Topics Discussed in the Preliminary Decision Memorandum

I. Summary

II. Background

III. Scope of the Order

IV. Affiliation and Collapsing of Affiliates

V. Particular Market Situation Allegation

VI. Unexamined Respondents

VII. Discussion of the Methodology

VIII. Recommendation

Appendix II

Non-Selected Companies Under Review

1. 0729670 B.C. Ltd. DBA Anderson Sales

2. 1074712 BC Ltd.

3. 258258 B.C. Ltd., dba Pacific Coast Cedar Products

4. 5214875 Manitoba Ltd.

5. 752615 B.C Ltd

6. 9224-5737 Quebec Inc. (aka A.G. Bois)

7. A.B. Cedar Shingle Inc.

8. Absolute Lumber Products Ltd.

9. AJ Forest Products Ltd.

10. Alberta Spruce Industries Ltd.

11. Aler Forest Products Ltd.

12. Alpa Lumber Mills Inc.

13. American Pacific Wood Products

14. Anbrook Industries Ltd.

15. Andersen Pacific Forest Products Ltd.

16. Anglo American Cedar Products Ltd.; Anglo-American Cedar Products Ltd.

17. Antrim Cedar Corporation

18. Aquila Cedar Products Ltd.

19. Arbec Lumber Inc.

20. Aspen Planers Ltd.

21. B&L Forest Products Ltd.

22. B.B. Pallets Inc.

23. Babine Forest Products Limited

24. Bakerview Forest Products Inc.

25. Bardobec Inc.

26. Barrette-Chapais Ltee

27. BarretteWood Inc.

28. Benoît & Dionne Produits Forestiers Ltee (aka Benoît & Dionne Forest Products Ltd.)

29. Best Quality Cedar Products Ltd.

30. Blanchet Multi Concept Inc.

31. Blanchette & Blanchette Inc.

32. Bois Aisé de Montréal Inc.

33. Bois Bonsaï Inc.

34. Bois Daaquam Inc.

35. Bois D'oeuvre Cedrico Inc. (aka Cedrico Lumber Inc.)

36. Bois et Solutions Marketing SPEC, Inc.

37. Boisaco Inc.

38. Boscus Canada Inc.

39. Boucher Bros. Lumber Ltd.

40. BPWood Ltd.

41. Bramwood Forest Inc.

42. Brink Forest Products Ltd.

43. Brunswick Valley Lumber Inc.

44. Busque & Laflamme Inc.

45. C&C Wood Products Ltd.

46. Caledonia Forest Products Inc.

47. Campbell River Shake & Shingle Co. Ltd.

48. Canadian American Forest Products Ltd.

49. Canadian Wood Products Inc.

50. Canasia Forest Industries Ltd.

51. Canusa Cedar Inc.

52. Canyon Lumber Company Ltd.

53. Careau Bois Inc.

54. Carrier & Begin Inc.

55. Carrier Forest Products Ltd.

56. Carrier Lumber Ltd.

57. Carter Forest Products Inc.

58. Cedar Valley Holdings Ltd.

59. Cedarline Industries Ltd.

60. Central Alberta Pallet Supply

61. Central Cedar Ltd.

62. Central Forest Products Inc.

63. Centurion Lumber Ltd.

64. Chaleur Sawmills LP

65. Channel-ex Trading Corporation

66. Clair Industrial Development Corp. Ltd.

67. Clermond Hamel Ltée

68. CNH Products Inc.

69. Coast Clear Wood Ltd.

70. Coast Mountain Cedar Products Ltd.

71. Commonwealth Plywood Co. Ltd.

72. Comox Valley Shakes Ltd.

73. Conifex Fibre Marketing Inc.

74. Cowichan Lumber Ltd.

75. CS Manufacturing Inc. (dba Cedarshed)

76. CWP—Industriel Inc.

77. CWP—Montréal Inc.

78. D & D Pallets Ltd.

79. Dakeryn Industries Ltd.

80. Decker Lake Forest Products Ltd.

81. Delco Forest Products Ltd.

82. Delta Cedar Specialties Ltd.

83. Devon Lumber Co. Ltd.

84. DH Manufacturing Inc.

85. Direct Cedar Supplies Ltd.

86. Doubletree Forest Products Ltd.

87. Downie Timber Ltd.

88. Dunkley Lumber Ltd.

89. EACOM Timber Corporation

90. East Fraser Fiber Co. Ltd.

91. Edgewood Forest Products Inc.

92. ER Probyn Export Ltd.

93. Eric Goguen & Sons Ltd.

94. Falcon Lumber Ltd.

95. Fontaine Inc.

96. Foothills Forest Products Inc.

97. Fornebu Lumber Company Inc.

98. Fraser Specialty Products Ltd.

99. Fraserview Cedar Products

100. FraserWood Inc.

101. FraserWood Industries Ltd.

102. Furtado Forest Products Ltd.

103. G & R Cedar Ltd.

104. Galloway Lumber Company Ltd.

105. Glandell Enterprises Inc.

106. Goat Lake Forest Products Ltd.

107. Goldband Shake & Shingle Ltd.

108. Golden Ears Shingle Ltd.

109. Goldwood Industries Ltd.

110. Goodfellow Inc.

111. Gorman Bros. Lumber Ltd.

112. Groupe Crête Chertsey Inc.

113. Groupe Crête ivision St-Faustin Inc.

114. Groupe Lebel Inc.

115. Groupe Lignarex Inc.

116. H.J. Crabbe & Sons Ltd.

117. Haida Forest Products Ltd.

118. Harry Freeman & Son Ltd.

119. Hornepayne Lumber LP

120. Imperial Cedar Products Ltd.

121. Imperial Shake Co. Ltd.

122. Independent Building Materials Distribution Inc.

123. Interfor Corporation

124. Island Cedar Products Ltd.

125. Ivor Forest Products Ltd.

126. J&G Log Works Ltd.

127. J.D. Irving, Limited

128. J.H. Huscroft Ltd.

129. Jan Woodlands (2001) Inc.

130. Jasco Forest Products Ltd.

131. Jazz Forest Products Ltd.

132. Jhajj Lumber Corporation

133. Kalesnikoff Lumber Co. Ltd.

134. Kan Wood Ltd.

135. Kebois Ltée/Ltd

136. Keystone Timber Ltd.

137. Kootenay Innovative Wood Ltd.

138. Lafontaine Lumber Inc.

139. Langevin Forest Products Inc.

140. Lecours Lumber Co. Limited

141. Ledwidge Lumber Co. Ltd.

142. Leisure Lumber Ltd.

143. Les Bois d'oeuvre Beaudoin Gauthier Inc.

144. Les Bois Martek Lumber

145. Les Bois Traités M.G. Inc.

146. Les Chantiers de Chibougamau Ltee

147. Les Produits Forestiers D&G Ltee (aka D&G Forest Products Ltd.)

148. Leslie Forest Products Ltd.

149. Lignum Forest Products LLP

150. Linwood Homes Ltd.

151. Longlac Lumber Inc.

152. Lulumco Inc.

153. Magnum Forest Products Ltd.

154. Maibec Inc.

155. Manitou Forest Products Ltd.

156. Marcel Lauzon Inc.

157. Marwood Ltd.

158. Materiaux Blanchet Inc.

159. Matsqui Management and Consulting Services Ltd., dba Canadian Cedar Roofing Depot

160. Metrie Canada Ltd.

161. Mid Valley Lumber Specialties Ltd.

162. Midway Lumber Mills Ltd.

163. Mill & Timber Products Ltd.

164. Millar Western Forest Products Ltd.

165. Mobilier Rustique (Beauce) Inc.

166. MP Atlantic Wood Ltd.

167. Multicedre Ltee

168. Murray Brothers Lumber Company Ltd.

169. Nakina Lumber Inc.

170. National Forest Products Ltd.

171. New Future Lumber Ltd.

172. Nicholson and Cates Ltd.

173. Norsask Forest Products Limited Partnership

174. North American Forest Products Ltd. (located in Abbotsford, British Columbia)

175. North American Forest Products Ltd. (located in Saint-Quentin, New Brunswick)

176. North Enderby Timber Ltd.

177. Oikawa Enterprises Ltd.

178. Olympic Industries Inc.

179. Olympic Industries ULC

180. Oregon Canadian Forest Products

181. Pacific Coast Cedar Products Ltd.

182. Pacific Pallet Ltd.

183. Pacific Western Wood Works Ltd.

184. Parallel Wood Products Ltd.

185. Pat Power Forest Products Corporation

186. Phoenix Forest Products Inc.

187. Pine Ideas Ltd.

188. Pioneer Pallet & Lumber Ltd.

189. Porcupine Wood Products Ltd.

190. Portbec Forest Products Ltd.

191. Power Wood Corp.

192. Precision Cedar Products Corp.

193. Prendiville Industries Ltd. (aka Kenora Forest Products)

194. Produits Forestiers Petit Paris Inc.

195. Produits forestiers Temrex, s.e.c.

196. Produits Matra Inc.

197. Promobois G.D.S. Inc.

198. Rayonier A.M. Canada GP

199. Rembos Inc.

200. Rene Bernard Inc.

201. Resolute Growth Canada Inc./Forest Products Mauricie LP, Société en commandite Scierie Opitciwan/Resolute-LP Engineered Wood Larouche Inc./Resolute-LP Engineered Wood St-Prime Limited Partnership/Resolute FP Canada Inc.

202. Richard Lutes Cedar Inc.

203. Rielly Industrial Lumber Inc.

204. Roland Boulanger & Cie Ltee

205. S & K Cedar Products Ltd.

206. S&R Sawmills Ltd.

207. S&W Forest Products Ltd.

208. San Industries Ltd.

209. Sawarne Lumber Co. Ltd.

210. Scierie Alexandre Lemay & Fils Inc.

211. Scierie P.S.E. Inc.

212. Scierie St-Michel Inc.

213. Scierie West Brome Inc.

214. Scotsburn Lumber Co. Ltd.

215. Sechoirs de Beauce Inc.

216. Serpentine Cedar Ltd.

217. Serpentine Cedar Roofing Ltd.

218. Sexton Lumber Co. Ltd.

219. Sigurdson Forest Products Ltd.

220. Silvaris Corporation

221. Silver Creek Premium Products Ltd.

222. Sinclar Group Forest Products Ltd.

223. Skana Forest Products Ltd.

224. Skeena Sawmills Ltd.

225. Sound Spars Enterprise Ltd.

226. South Beach Trading Inc.

227. Specialiste du Bardeau de Cedre Inc.

228. Spruceland Millworks Inc.

229. Star Lumber Canada Ltd.

230. Sundher Timber Products Ltd.

231. Surrey Cedar Ltd.

232. T.G. Wood Products Ltd.

233. Taan Forest Limited Partnership (aka Taan Forest Products)

234. Taiga Building Products Ltd.

235. Tall Tree Lumber Company

236. Teal Cedar Products Ltd.

237. Tembec Inc.

238. Terminal Forest Products Ltd.

239. The Teal Jones Group

240. The Wood Source Inc.

241. Tolko Industries Ltd.; Tolko Marketing and Sales Ltd.; Gilbert Smith Forest Products Ltd.

242. Trans-Pacific Trading Ltd.

243. Triad Forest Products Ltd.

244. Twin Rivers Paper Co. Inc.

245. Tyee Timber Products Ltd.

246. Universal Lumber Sales Ltd.

247. Usine Sartigan Inc.

248. Vaagen Fibre Canada ULC

249. Valley Cedar 2 Inc.

250. Vancouver Island Shingle Ltd.

251. Vancouver Specialty Cedar Products Ltd.

252. Vanderhoof Specialty Wood Products Ltd.

253. Visscher Lumber Inc.

254. W.I. Woodtone Industries Inc.

255. Waldun Forest Product Sales Ltd.

256. Watkins Sawmills Ltd.

257. West Bay Forest Products Ltd.

258. West Fraser Timber Co. Ltd.

259. West Wind Hardwood Inc.

260. Western Forest Products Inc.

261. Western Lumber Sales Limited

262. Western Wood Preservers Ltd.

263. Weston Forest Products Inc.

264. Westrend Exteriors Inc.

265. Weyerhaeuser Co.

266. White River Forest Products L.P.

267. Winton Homes Ltd.

268. Woodline Forest Products Ltd.

269. Woodstock Forest Products

270. Woodtone Specialties Inc.

271. Yarrow Wood Ltd.

[FR Doc. 2021-11171 Filed 5-26-21; 8:45 am]

BILLING CODE 3510-DS-P